DEPARTMENT OF COMMERCE

National Oceanic and Atmospheric Administration

RIN 0648-XF331

Marine Mammals; File No. 21280

AGENCY: National Marine Fisheries Service (NMFS), National Oceanic and Atmospheric Administration (NOAA), Commerce.

ACTION: Notice; receipt of application.

SUMMARY: Notice is hereby given that the Columbus Zoo Park Association, Inc., 9990 Riverside Drive, P.O. Box 400, Powell, OH 43065-0400 [Greg Bell, Responsible Official] has applied in due form for a permit to import seven California sea lions (Zalophus californianus) for public display purposes.

DATES: Written, telefaxed, or email comments must be received on or before May 8, 2017.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 21280 in the subject line of the email comment.

Those individuals requesting a public hearing should submit a written request to the Chief, Permits and Conservation Division at the address listed above. The request should set forth the specific reasons why a hearing on this application would be appropriate.

FOR FURTHER INFORMATION CONTACT: Jennifer Skidmore or Courtney Smith, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant proposes to import seven captive-born California sea lions from Shanghai Changfeng Ocean World in Shanghai City, China to the Columbus Zoo satellite facility in Myakka City, FL for the purpose of public display. The Columbus Zoo has provided documentation that its satellite facility will be: (1) Open to the public on regularly scheduled basis with access that is not limited or restricted other than by charging for an admission fee; (2) offers a conservation and educational program based on professionally accepted standards of the Association of Zoos and Aquariums; and (3) holds an Exhibitor's License issued by the U.S. Department of Agriculture under the Animal Welfare Act (7 U.S.C. 2131-59).

In addition to determining whether the applicant meets the three public display criteria, NMFS must determine whether the applicant has demonstrated that the proposed activity is humane and does not represent any unnecessary risks to the health and welfare of marine mammals; that the proposed activity by itself, or in combination with other activities, will not likely have a significant adverse impact on the species or stock; and that the applicant's expertise, facilities and resources are adequate to accomplish successfully the objectives and activities stated in the application. The requested duration of the permit is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 3, 2017.
Julia Harrison,
Chief, Permits and Conservation Division, Office of Protected Resources, National Marine Fisheries Service.

[FR Doc. 2017-06935 Filed 4-6-17; 8:45 am]

BILLING CODE 3510-22-P